DEPARTMENT OF THE TREASURY

31 CFR Part 515

Cuban Assets Control Regulations

CFR Correction

This rule is being published by the Office of the Federal Register to correct an editorial or technical error that appeared in the most recent annual revision of the Code of Federal Regulations.

In Title 31 of the Code of Federal Regulations, Part 500 to End, revised as of July 1, 2022, in section 515.570, in paragraph (d), remove “§ 515.565(d)” in both places where it appears and add in its place “§ 515.565(f)”.

[FR Doc. 2023-18455 Filed 8-24-23; 8:45 am]

BILLING CODE 0099-10-P